ENVIRONMENTAL PROTECTION AGENCY

[FRL-7130-5]

Office of Research and Development Board of Scientific Counselors, Executive Committee Meeting

AGENCY: Environmental Protection Agency (EPA).

ACTION: Notice of meeting.

SUMMARY: Pursuant to the Federal Advisory Committee Act, Public Law 92-463, as amended (5 U.S.C., App. 2) notification is hereby given that the Environmental Protection Agency, Office of Research and Development (ORD), Board of Scientific Counselors (BOSC), will hold an Executive Committee Meeting.

DATES: The Meeting will be held on February 11-12, 2002. On Monday, February 11, the Meeting will begin at 1 p.m., and will recess at 5 p.m. On Tuesday, February 12, the Meeting will reconvene at 9 a.m. and will adjourn at approximately 4 p.m. All times noted are Eastern Time.

ADDRESSES: The Meeting will be held at the Madison Hotel, 1177 15th Street, NW., Washington, DC 20005, (202) 862-1600.

SUPPLEMENTARY INFORMATION: Agenda items will include, but not be limited to: Discussion of BOSC Sub-Committee draft reports of ORD Labs/Centers site visits, Ad-hoc Subcommittee on Communications Progress Report, and discussion of BOSC 2002 activities.

Anyone desiring a draft agenda may fax their request to Shirley R. Hamilton at (202) 565-2444. The meeting is open to the public. Any member of the public wishing to make a presentation at the meeting should contact Shirley Hamilton, Designated Federal Officer, U.S. Environmental Protection Agency, Board of Scientific Counselors, Office of Research and Development (8701R), 1200 Pennsylvania Avenue, NW., Washington, DC 20460; or by telephone at (202) 564-6853. In general each individual making an oral presentation will be limited to a total of three minutes.

FOR FURTHER INFORMATION CONTACT: Shirley R. Hamilton, Designated Federal Officer, U.S. Environmental Protection Agency, Office of Research and Development, (8701R), 1200 Pennsylvania Avenue, NW., Washington, DC 20460, (202) 564-6853.

Dated: January 14, 2002.
Peter W. Preuss,
Director, National Center for Environmental Research.

[FR Doc. 02-1347 Filed 1-17-02; 8:45 am]

BILLING CODE 6560-50-P